SMALL BUSINESS ADMINISTRATION

[Disaster Declaration #12283 and #12284]

MISSOURI Disaster Number MO-00041

AGENCY: U.S. Small Business Administration.

ACTION: Amendment 2.

SUMMARY: This is an amendment of the Presidential declaration of a major disaster for Public Assistance Only for the State of MISSOURI (FEMA-1934-DR), dated 08/17/2010.

Incident: Severe Storms, Flooding, and Tornadoes.

Incident Period: 06/12/2010 through 07/31/2010.

DATES: Effective Date: 09/20/2010.

Physical Loan Application Deadline Date: 10/18/2010.

Economic Injury (EIDL) Loan Application Deadline Date: 05/17/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of MISSOURI, dated 08/17/2010, is hereby amended to include the following areas as adversely affected by the disaster.

Primary Counties: Perry.

All other information in the original declaration remains unchanged.

(Catalog of Federal Domestic Assistance Numbers 59002 and 59008)

James E. Rivera,
Associate Administrator for Disaster Assistance.

[FR Doc. 2010-24397 Filed 9-28-10; 8:45 am]

BILLING CODE 8025-01-P